DEPARTMENT OF THE TREASURY

Office of Foreign Assets Control

Removal of Specially Designated Nationals and Blocked Persons Pursuant to the Cuban Assets Control Regulations

AGENCY: Office of Foreign Assets Control, Treasury.

ACTION: Notice.

SUMMARY: The Department of the Treasury's Office of Foreign Assets Control (OFAC) is publishing the name of 21 individuals, 36 entities, and three vessels whose names have been removed from the list of Specially Designated Nationals and Blocked Persons (SDN List) pursuant to the Cuban Assets Control Regulations, 31 CFR part 515.

DATES: The removal from the SDN List of the individuals, entities, and vessel identified in this notice is effective August 27, 2015.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

The SDN List and additional information concerning OFAC are available from OFAC's Web site (www.treas.gov/ofac). Certain general information pertaining to OFAC's sanctions programs is available via facsimile through a 24-hour fax-on-demand service, tel.: 202/622-0077.

Background

On August 27, 2015, the Associate Director of OFAC removed from the SDN List the individuals, entities, and vessels listed below, whose names were included on the SDN List pursuant to the Cuban Assets Control Regulations:

Individuals

1. HAYA, Francisco, Panama (individual) [CUBA].

2. BATISTA, Miguel, Panama (individual) [CUBA].

3. CUENCA, Ramon Cesar, Panama (individual) [CUBA].

4. PEREZ, Alfonso, Panama (individual) [CUBA].

5. JIMINEZ SOLER, Gillermo, Panama (individual) [CUBA].

6. ROQUE PEREZ, Roberto, Panama (individual) [CUBA].

7. COLL PRADO, Gabriel, Panama (individual) [CUBA].

8. ECHEVERRI, German, Panama (individual) [CUBA].

9. ORTEGA PINA, Dario, Edificio Saldivar, Panama City, Panama (individual) [CUBA].

10. SANTAMARINA DE LA TORRE, Rafael Garcia (a.k.a. GARCIA SANTAMARINA DE LA TORRE, Alfredo Rafael), Panama (individual) [CUBA].

11. VASQUES, Oscar D. (a.k.a. VAZQUEZ, Oscar D.), Panama (individual) [CUBA].

12. DOOLEY, Michael P., Panama (individual) [CUBA].

13. MONTANEZ, Michael, Panama (individual) [CUBA].

14. PENA, Victor, Panama (individual) [CUBA].

15. ROMEO, Charles (a.k.a. ROMEO, Charles Henri Robert), Panama (individual) [CUBA].

16. DIAZ GONZALEZ, Rolando, Frankfurt, Germany (individual) [CUBA].

17. MADAN RIVAS, Jorge, Frankfurt, Germany (individual) [CUBA].

18. NAVARRO MARTINEZ, Samuel, Frankfurt, Germany (individual) [CUBA].

19. ROPERT, Miria Contreras (a.k.a. CONTRERAS, Miria), Paris, France (individual) [CUBA].

20. MEDINA, Ana Maria (a.k.a. MEDINA, Anita), Panama (individual) [CUBA].

21. PEREZ, Manuel Martin, Panama (individual) [CUBA].

Entities

1. RENT-A-CAR, S.A., Panama [CUBA].

2. TRANSIT, S.A., Panama [CUBA].

3. COMERCIAL MURALLA, S.A. (a.k.a. MURALLA, S.A.), Panama City, Panama [CUBA].

4. DESARROLLO DE PROYECTOS, S.A. (a.k.a. DEPROSA, S.A.), Panama City, Panama [CUBA].

5. INTERNATIONAL TRANSPORT CORPORATION, Colon Free Zone, Panama [CUBA].

6. PRESA, S.A., Panama [CUBA].

7. SUPLIDORA LATINO AMERICANA, S.A. (a.k.a. SUPLILAT, S.A.), Panama City, Panama [CUBA].

8. MOONEX INTERNATIONAL, S.A., Kingston, Jamaica; Panama [CUBA].

9. AEROTAXI EJECUTIVO, S.A., Managua, Nicaragua [CUBA].

10. LEYBDA CORPORATION, S.A., Panama [CUBA].

11. HAVINPEX, S.A. (a.k.a. TRANSOVER, S.A.), Panama City, Panama [CUBA].

12. MERCURIUS IMPORT/EXPORT COMPANY, PANAMA, S.A., Calle C, Edificio 18, Box 4048, Colon Free Zone, Panama [CUBA].

13. SERVIMPEX, S.A., Panama [CUBA].

14. MARKETING ASSOCIATES CORPORATION, Calle 52 E, Campo Alegre, Panama City, Panama [CUBA].

15. FACOBATA, Panama [CUBA].

16. GALLO IMPORT, Panama [CUBA].

17. GUACA EXPORT, Panama [CUBA].

18. INTERNATIONAL PETROLEUM, S.A. (a.k.a. IPESCO), Colon Free Zone, Panama [CUBA].

19. TRUST IMPORT-EXPORT, S.A., Panama [CUBA].

20. LICOREXPORT S.A., Quito, Ecuador [CUBA].

21. GEMEX AUSSENHANDELS GMBH, Hanauer Landstr. 126-128, Frankfurt am Main 1 D-6000, Germany [CUBA].

22. CONTEX, S.A., Panama [CUBA].

23. FRUNI TRADING CO., c/o MELFI MARINE CORPORATION S.A., Oficina 7, Edificio Senorial, Calle 50, Apartado 31, Panama City 5, Panama [CUBA].

24. LAKSHMI, Panama [CUBA].

25. BURGAN INTERNATIONAL, Kuwait [CUBA].

26. FABRO INVESTMENT, INC., Panama [CUBA].

27. PRIMA EXPORT/IMPORT, Jamaica [CUBA].

28. PROMOTORA ANDINA, S.A., Quito, Ecuador [CUBA].

29. CASA DEL REPUESTO, Panama City, Panama [CUBA].

30. COMPANIA FENIX INTERNACIONAL, S.A., Caracas, Venezuela [CUBA].

31. MONET TRADING COMPANY, Panama [CUBA].

32. TECHNIC HOLDING INC., Calle 34 No. 4-50, Office 301, Panama City, Panama [CUBA].

33. VIACON INTERNATIONAL, INC., Apartment 7B Torre Mar Building, Punta Paitilla Area, Panama City, Panama [CUBA].

34. VIACON INTERNATIONAL, INC., France Field, Colon Free Zone, Panama [CUBA].

35. IMPRISA, Spain [CUBA].

36. IMPRISA, S.A., Panama [CUBA].

Vessels

1. CELTIC (f.k.a. VIOLET ISLANDS) (C4WU) Bulk Carrier 27,652DWT 16,582GRT Cyprus flag (Atlantic Marie Shipping Co. Ltd.) (vessel) [CUBA].

2. CICLON Unknown vessel type (Senanque Shipping Co., Ltd., Cyprus) (vessel) [CUBA].

3. CRIOLLO (CL2257) Tug 181GRT Cuba flag (Samir de Navegacion S.A.) (vessel) [CUBA].

Dated: August 27, 2015.
Gregory T. Gatjanis,
Associate Director, Office of Global Targeting, Office of Foreign Assets Control.

[FR Doc. 2015-21659 Filed 9-1-15; 8:45 am]

BILLING CODE 4810-AL-P